DEPARTMENT OF COMMERCE

Census Bureau

2002 Economic Census of the Outlying Areas Including Puerto Rico, Guam, Northern Mariana Islands, the U.S. Virgin Islands, and American Samoa

ACTION: Proposed collection, comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 14, 2001.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to Eddie J. Salyers, U. S. Census Bureau, Room 1183, Building 3, Washington DC 20233-6400 (301-457-3318 or via the Internet at eddie.joe.salyers@census.gov).

SUPPLEMENTARY INFORMATION:

I. Abstract

The economic census, conducted under authority of Title 13, United States Code (U.S.C.), is the primary source of facts about the structure and functioning of the United States economy, including Puerto Rico, Guam, Northern Mariana Islands, the U.S. Virgin Islands, and American Samoa. The economic census, is the primary source of dependable facts about each of the outlying areas' economies, and features the only recognized source of data at a geographic level equivalent to U.S. counties. Outlying areas economic census statistics serve to benchmark estimates of local net income and gross product, and provide essential information for government (Federal and local), business, and the general public. Economic data are the Census Bureau's primary program commitment during nondecennial census years. The 2002 Economic Census of Outlying Areas will cover the following sectors (as defined by the North American Industry Classification System (NAICS)): Mining, Utilities, Construction, Manufacturing; Wholesale and Retail Trades, Transportation and Warehousing, Information; Finance and Insurance; Real Estate and Rental and Leasing; Professional, Scientific, and Technical Services; Management of Companies and Enterprises; Administrative and Support, Waste Management and Remediation Services, Educational Services; Health Care and Social Assistance; Arts, Entertainment, and Recreation; Accommodation and Food Services, and Other Services (except Public Administration). This scope is equivalent to that of the stateside economic census. The information collected will produce basic statistics by kind of business on the number of establishments, sales/shipments/receipts/revenue, payroll, and employment. It will also yield a variety of industry-specific statistics, including sales/receipts by commodity/merchandise/receipt line, sales/shipments by class of customer, and number of hotel rooms. The primary strategy for reducing burden in Census Bureau economic data collections is to increase electronic reporting through broader use of electronic collection methods, including the introduction of electronic formats in the Outlying Areas economic data collection for 2002.

II. Method of Collection

The 2002 Economic Census of Outlying Areas will be conducted using mailout/mailback procedures. Establishments will be selected from the Census Bureau's Business Register. An establishment will be included in the 2002 Outlying Areas Economic Census if: (a) It is engaged in any of the sectors within the scope of the census listed above; (b) it is an active operating establishment with payroll; and (c) it is located in Puerto Rico, Guam, Northern Mariana Islands, the U.S. Virgin Islands, or American Samoa. Generally, non-employer establishments are excluded from the Census of the Outlying Areas. However, this economic data collection will be the first in American Samoa. The inclusion of non-employer establishments is still being examined in light of significant deficiencies in administrative records for this area as well as the lack of economic statistics.

III. Data

OMB Number: Not available.

Form Number: The forms used to collect information in Puerto Rico are tailored to specific industries or groups of industries. Puerto Rico forms are available in English as well as Spanish: OA-97120 and OA-97220 (Puerto Rico—Utilities, Transportation , and Warehousing), OA-97123 and OA-97223 (Puerto Rico Construction), OA-97130 and OA-97230 (Puerto Rico—Manufacturing and Mining), OA-97142 and OA-97242 (Puerto Rico—Wholesale Trade), OA-97144 and OA-97244 (Puerto Rico—Retail Trade and Food Services), OA-97152 and OA-97252 (Puerto Rico—Finance and Insurance and Real Estate and Rental and Leasing), OA-97172 and OA-97272 (Puerto Rico Accommodations), OA-97180 and OA-97280 (Puerto Rico—Other Services), and OA-97190 and OA-97290 (Puerto Rico—General Schedule). Only one form, covering all economic activity within the scope of the census, is used for each of the remaining areas: OA-98163 (Guam), OA-98173 (U.S. Virgin Islands), OA-98183 (Northern Mariana Islands), and OA-98193 (American Samoa).

Type of Review: Regular review.

Affected Public: Local governments, businesses, or other for profit or non-profit institutions or organizations.

Estimated Number of Respondents:

Puerto Rico 50,000

Guam 4,000

Northern Mariana Islands 2,000

U.S. Virgin Islands 3,000

American Samoa 2,500 (includes non-employers)

Total 61,500

Estimated Time Per Response:

Puerto Rico 1.00 hours

Guam 30 minutes

Northern Mariana Islands 30 minutes

U.S. Virgin Islands 30 minutes

American Samoa 30 minutes

Estimated Total Annual Burden Hours:

Puerto Rico 50,000

Guam 2,000

Northern Mariana Islands 1,000

U.S. Virgin Islands 1,500

American Samoa 1,250

Total 55,750

Estimated Total Annual Cost: $646,593.

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 9, 2001.
Madeleine Clayton,
Departmental Paperwork Clearance Officer, Office of the Chief Information Officer.

[FR Doc. 01-25775 Filed 10-12-01; 8:45 am]

BILLING CODE 6560-50-P